ENVIRONMENTAL PROTECTION AGENCY

40 CFR Part 300

[FRL-7933-9]

National Oil and Hazardous Substances Pollution Contingency Plan; National Priorities List

AGENCY: Environmental Protection Agency.

ACTION: Notice of intent to delete the Jones Sanitation Superfund Site from the National Priorities List.

SUMMARY: The Environmental Protection Agency (EPA) Region 2 office is issuing this notice of intent to delete the Jones Sanitation Superfund Site (Site), located in Hyde Park, New York from the National Priorities List (NPL) and requests public comment on this action. The NPL is Appendix B of the National Oil and Hazardous Substances Pollution Contingency Plan (NCP), 40 CFR part 300, which EPA promulgated pursuant to section 105 of the Comprehensive Environmental Response, Compensation, and Liability Act (CERCLA) of 1980, as amended. The EPA and the State of New York, through the Department of Environmental Conservation (NYSDEC), have determined that potentially responsible parties have implemented all appropriate response actions. Moreover, EPA and NYSDEC have determined that the Site poses no significant threat to public health or the environment. In the “Rules and Regulations” Section of today's Federal Register, we are publishing a direct final notice of deletion for the Jones Sanitation Superfund Site without prior notice of this action because we view this as a noncontroversial revision and anticipate no significant adverse comment. We have explained our reasons for this action in the preamble to the direct final deletion. If we receive no significant adverse comment(s) on this notice of intent to delete or the direct final notice of deletion or other notices we may issue, we will not take further action on this notice of intent to delete. If we receive significant adverse comment(s), we will withdraw the direct final notice of deletion and it will not take effect. We will, as appropriate, address all public comments. If, after evaluating public comments, EPA decides to proceed with deletion, we will do so in a subsequent final deletion notice based on this notice of intent to delete. Any parties interested in commenting must do so at this time. For additional information, see the direct final notice of deletion which is located in the Rules section of this Federal Register.

DATES: Comments concerning this Site must be received by August 8, 2005.

ADDRESSES: Written comments should be addressed to: Isabel Rodrigues, Remedial Project Manager, Emergency and Remedial Response Division, U.S. Environmental Protection Agency, Region 2, 290 Broadway, 20th Floor, New York, New York 10007-1866.

FOR FURTHER INFORMATION CONTACT: Ms. Isabel Rodrigues at the address provided above, or by telephone at (212) 637-4248, by Fax at (212) 637-4284 or via e-mail at Rodrigues.Isabel@EPA.GOV.

SUPPLEMENTARY INFORMATION: For additional information, see the Direct Final Notice of Deletion which is located in the Rules section of this Federal Register.

Authority: 33 U.S.C. 1321(c)(2); 42 U.S.C. 9601-9675; E.O. 12777, 56 FR 54757, 3 CFR, 1991 Comp., p. 351; E.O. 12580, 52 FR 2923, 3 CFR, 1987 Comp., p. 193.

Dated: June 6, 2005.
George Pavlou,
Acting Regional Administrator, U.S. EPA, Region II.

[FR Doc. 05-13347 Filed 7-6-05; 8:45 am]

BILLING CODE 6560-50-P